DEPARTMENT OF HEALTH AND HUMAN SERVICES

National Institutes of Health

Submission for OMB Review; 30-Day Comment Request: Request Human Embryonic Stem Cell Line To Be Approved for Use in NIH Funded Research (Office of the Director)

AGENCY: National Institutes of Health, HHS.

ACTION: Notice.

SUMMARY: In compliance with the requirement of the Paperwork Reduction Act of 1995, the National Institutes of Health (NIH) Office of the Director has submitted to the Office of Management and Budget (OMB) a request for review and approval of the information listed below.

DATES: Comments regarding this information collection are best assured of having their full effect if received within 30 days of the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To request more information on the proposed project or to obtain a copy of the data collection plans and instruments, contact: Dr. Ellen Gadbois, Office of the Director, NIH, building 1, Room 218, MSC 0166, 9000 Rockville Pike, Bethesda, Maryland 20892, or call non-toll free number (301) 496-9838 or email your request, including your address to: Ellen.gadbois@nih.gov.

SUPPLEMENTARY INFORMATION: This proposed information collection was previously published in the Federal Register on June 8, 2022, pages 34892-34893 (87 FR 34892) and allowed 60 days for public comment. No public comments were received. The purpose of this notice is to allow an additional 30 days for public comment.

The NIH Office of the Director may not conduct or sponsor, and the respondent is not required to respond to, an information collection that has been extended, revised, or implemented on or after October 1, 1995, unless it displays a currently valid OMB control number.

In compliance with section 3507(a)(1)(D) of the Paperwork Reduction Act of 1995, the National Institutes of Health (NIH) has submitted to the OMB a request for review and approval of the information collection listed below.

Proposed Collection: Request for Human Embryonic Stem Cell Line to Be Approved for Use in NIH Funded Research. OMB No. 0925-0601 Extension —Expiration Date 10/31/2022—Office of the Director, NIH.

Need and Use of Information Collection: This form is used by applicants to request that human embryonic stem cell lines be approved for use in NIH funded research. Applicants may submit applications at any time.

OMB approval is requested for three years. There are no costs to respondents other than their time. The total estimated annualized burden hours are 255 per respondent.

Estimated Annualized Burden Hours
Type of respondent | Number of respondents | Number of responses per respondent | Average time per response (in hours) | Total annual burden hour
NIH grantees and others with hESC lines | 5 | 3 | 17 | 255
Total |  | 15 |  | 255

Dated: September 7, 2022.
Tara A. Schwetz,
Acting Principal Deputy Director, National Institutes of Health.

[FR Doc. 2022-19775 Filed 9-12-22; 8:45 am]

BILLING CODE 4140-01-P